DEPARTMENT OF AGRICULTURE

Forest Service

Proposed Recreation Fee Site

AGENCY: Forest Service, USDA.

ACTION: Notice

SUMMARY: The Bridger-Teton National Forest is proposing to establish a special recreation permit and special recreation permit fees along the Congressionally designated Wild and Scenic Snake River. Proposed special recreation permit fees would be used for operation, maintenance, and improvements to prevent degradation, enhance recreation opportunities, and preserve the outstandingly remarkable values described in the comprehensive river management plan for the Snake River. An analysis of nearby specialized recreation uses with similar amenities and services shows the proposed special recreation permit fees that would be charged are reasonable and typical of similar specialized recreation uses in the area.

DATES: If approved, the proposed special recreation permit and proposed special recreation permit fees would be established no earlier than six months following the publication of this notice in the Federal Register.

ADDRESSES: Bridger-Teton National Forest, Attention: Recreation Fees, 340 North Cache, P.O. Box 1888, Jackson, WY 83001.

FOR FURTHER INFORMATION CONTACT: Shannon Connolly, Forest Recreation Program Manager, (406) 544-4734 or shannon.connolly@usda.gov.

SUPPLEMENTARY INFORMATION: The Federal Lands Recreation Enhancement Act (16 U.S.C. 6803(b)) requires the Forest Service to publish a six-month advance notice in the Federal Register of establishment of proposed special recreation permits and proposed special recreation permit fees. Most of the proposed special recreation permit fees would be spent where they are collected to enhance the visitor experience in connection with the specialized recreation use covered by the proposed special recreation permit.

A proposed special recreation permit would be required and a proposed special recreation permit fee would be charged of $5 per vehicle per day, $40 per vehicle per year, $20 per additional vehicle per year, $3 per outfitted customer, or $3 per noncommercial group member along the Snake River. Expenditures of special recreation permit fees collected would enhance recreation opportunities, improve customer service, and address maintenance needs along the Snake River.

Dated: September 9, 2024.
Jacqueline Emanuel,
Associate Deputy Chief, National Forest System.

[FR Doc. 2024-20718 Filed 9-11-24; 8:45 am]

BILLING CODE 3411-15-P